SURFACE TRANSPORTATION BOARD

[Docket No. FD 35992]

Wisconsin Central Ltd.—Trackage Rights Exemption—Lines of Union Pacific Railroad Company and Illinois Central Railroad Company

Illinois Central Railroad Company (IC), pursuant to a written trackage rights agreement,¹ has agreed to grant Wisconsin Central Ltd. (WCL) ² overhead trackage rights over connecting rail lines owned by Union Pacific Railroad Company (UP) and IC, between milepost AO 36.7 at Joliet, and milepost AH 41.13 at South Joliet, in Will County, Ill., a distance of approximately 4.43 miles.³

¹ An executed copy of the amendment to the 2009 agreement between IC and WCL was filed with the notice of exemption. A redacted version of the underlying 1987 trackage rights agreement between IC and UP (as amended) was also filed with the notice. An unredacted version of the 1987 agreement was filed under seal along with a motion for protective order, which will be addressed in a separate decision.

² WCL and IC are indirect subsidiaries of Canadian National Railway Company.

³ WCL states that numeric mileposting on the line is continuous (measured from Chicago Union station), but the alpha prefix designation changes from AO to AH at milepost 38.5. WCL also states that the distances between terminal mileposts on the line can be measured without regard to the alpha prefixes.

The transaction may be consummated on February 27, 2016, the effective date of the exemption (30 days after the exemption was filed).

WCL states that the proposed trackage rights will facilitate the efficient provision of service to and from a rail-served logistics facility at Joliet, via a switch connection located on UP's line. WCL states also that by allowing more direct service and enhancing crew utilization, the proposed transaction will improve rail operations within the Chicago terminal area to the benefit of WCL, IC, and UP.

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980). This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed by February 19, 2016 (at least seven days before the exemption becomes effective).

An original and 10 copies of all pleadings, referring to Docket No. FD 35992, must be filed with the Surface Transportation Board, 395 E Street SW., Washington, DC 20423-0001. In addition, a copy of each pleading must be served on Robert A. Wimbish, Fletcher & Sippel LLC, 29 North Wacker Drive, Suite 920, Chicago, IL 60606.

According to WCL, this action is categorically excluded from environmental review under 49 CFR 1105.6(c).

Board decisions and notices are available on our Web site at “WWW.STB.DOT.GOV.”

Decided: February 9, 2016.
By the Board, Rachel D. Campbell, Director, Office of Proceedings.
Kenyatta Clay,
Clearance Clerk.

[FR Doc. 2016-02903 Filed 2-11-16; 8:45 am]

BILLING CODE 4915-01-P